DEPARTMENT OF STATE

[Delegation of Authority No. 465]

Delegation of Functions and Authorities To Provide a Waiver of Certain United States Passport Application and File Search Fees

By virtue of the authority vested in the Secretary of State, including by Section 1 of the Department of State Basic Authorities Act, as amended (22 U.S.C. 2651a), and by the Presidential Memorandum on the Delegation of Functions and Authorities Under Section 1238 of the FAA Reauthorization Act of 2018, dated December 21, 2018, I hereby delegate to the Assistant Secretary of State for Consular Affairs the following functions and authorities of the President set forth in sections 1238(a)(1)(A)-(B) of the FAA Reauthorization Act of 2018 (42 U.S.C. 5174b(1)(A)-(B)):

(1) The authority under 42 U.S.C. 5174b(1)(A)) to provide a waiver of the United States passport application fee for individuals who lost their United States passport in a qualifying major disaster; and

(2) The authority under 42 U.S.C. 5174b(1)(B)) to provide a waiver of the file search fee for a United States passport for individuals who lost their United States passport in a qualifying major disaster.

Any act, executive order, regulation, or procedure subject to, or affected by, this delegation shall be deemed to be such act, executive order, regulation, or procedure as amended from time to time. Notwithstanding this delegation of authority, the Secretary, the Deputy Secretary, and the Under Secretary or Deputy Under Secretary for Management may at any time exercise any authority or function delegated herein.

This delegation of authority does not supersede or amend any other delegation of authority currently in effect.

This delegation of authority shall be published in the Federal Register.

Dated: February 28, 2019.
Michael R. Pompeo,
Secretary of State, Department of State.

[FR Doc. 2019-06992 Filed 4-8-19; 8:45 am]

BILLING CODE 4710-06-P